SMALL BUSINESS ADMINISTRATION

[Declaration of Disaster #3629; Amendment #3]

State of Georgia

In accordance with a notice received from the Department of Homeland Security—Federal Emergency Management Agency—effective October 30, 2004, the above numbered declaration is hereby amended to establish the incident period for this disaster as beginning September 14, 2004, and continuing through October 30, 2004.

All other information remains the same, i.e., the deadline for filing applications for physical damage is November 17, 2004, and for economic injury the deadline is June 20, 2005.

(Catalog of Federal Domestic Assistance Program Nos. 59002 and 59008.)

Dated: November 8, 2004.
Herbert L. Mitchell,
Associate Administrator for Disaster Assistance.

[FR Doc. 04-25311 Filed 11-12-04; 8:45 am]

BILLING CODE 8025-01-P